DEPARTMENT OF DEFENSE

Office of the Secretary

[Docket ID: DoD-2020-OS-0104]

Submission for OMB Review; Comment Request

AGENCY: National Defense University, Department of Defense (DoD).

ACTION: 30-Day information collection notice.

SUMMARY: The Department of Defense has submitted to OMB for clearance the following proposal for collection of information under the provisions of the Paperwork Reduction Act.

DATES: Consideration will be given to all comments received by October 18, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION:

Title; Associated Form; and OMB Number: National Defense University Security Office Forms; OMB Control Number 0704-NDUS.

Type of Request: Existing collection in use without an OMB Control Number.

Number of Respondents: 385.

Responses per Respondent: 1.

Annual Responses: 385.

Average Burden per Response: 12 minutes.

Annual Burden Hours: 77.

Needs and Uses: The National Defense University (NDU) Security Office is responsible for ensuring personnel and facility security in all situations involving NDU employees. This includes ensuring that an appropriate background investigation is completed and favorably adjudicated in accordance with 32 CFR 156.6—Common access card (CAC) investigation and adjudication. It is also necessary for the NDU Security Office to process visit clearance certification for NDU employees that are visiting outside agencies/components facilities involving access to, or disclosure of, classified information. In accordance with DoDM 5200.01, volume 3 and DoDD 5230.20 at a minimum, data is required to identify an individual, personnel security clearance, access (if appropriate), and need to know for all visitors. NDU Security Office is also responsible for in-processing all permanent personnel (military, civilians, contractors, and foreign partners assigned to the colleges and centers within NDU's area of responsibility). In accordance with HSPD-12 and FIPS 201, the data provided is necessary to process Personal Identity Verification (PIV) credentials to personnel seeking physical access to federally-controlled government facilities. The three forms included in this collection package—the NDU eQIP Nomination Form, NDU Visit Request Form, and NDU Security In-Process Form—facilitate each of these processes, respectively. Respondents to this collection are National Defense University employees who must provide information to the NDU Security Office to facilitate essential personnel, facility, and information security functions. This includes information necessary to complete a background investigation for CAC card issuance (NDU eQIP Nomination Form), information for in-processing and PIV credentialing (NDU Security In-Process Form), and information for visit clearance certification (NDU Visit Request Form).

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: September 10, 2021.
Kayyonne T. Marston,
Alternate OSD Federal Register Liaison, Officer, Department of Defense.

[FR Doc. 2021-19958 Filed 9-15-21; 8:45 am]

BILLING CODE 5001-06-P